DEPARTMENT OF HEALTH AND HUMAN SERVICES

National Institutes of Health

National Heart, Lung, and Blood Institute; Amended Notice of Meeting

Notice is hereby given of a change in the meeting of the National Heart, Lung, and Blood Institute Special Emphasis Panel, July 29, 2009, 8 a.m. to July 30, 2009, 5 p.m., Ritz Carlton Hotel, 1150 22nd Street, NW., Washington, DC, 20037 which was published in the Federal Register on July 8, 2009, FRE9-16115.

The meeting date was changed from July 29-30, 2009 to July 29, 2009. The meeting is closed to the public.

Dated: July 10, 2009.
Jennifer Spaeth,
Director, Office of Federal Advisory Committee Policy.

[FR Doc. E9-17051 Filed 7-16-09; 8:45 am]

BILLING CODE 4140-01-P